DEPARTMENT OF DEFENSE

Office of the Secretary

32 CFR Part 253

[Docket ID: DOD-2019-OS-0006]

RIN 0790-AK50

Assignment of American National Red Cross and United Service Organizations, Inc., Employees to Duty with the Military Services

AGENCY: Office of the Under Secretary of Defense for Intelligence, DoD.

ACTION: Final rule.

SUMMARY: This final rule removes a DoD regulation which was originally established in 1983 for the purpose of determining the security acceptability of American Red Cross and United Service Organizations, Inc. personnel for assignment to duty overseas with the Military Services. It has not been updated since it was established, and contains outdated internal policy. Current policy and bilateral agreements between the Department and the organizations govern this process.

DATES: This rule is effective on November 13, 2020.

FOR FURTHER INFORMATION CONTACT: Joshua Freedman at 703-692-3724.

SUPPLEMENTARY INFORMATION: It has been determined that publication of this rule removal in the CFR for public comment is impracticable, unnecessary, and contrary to public interest since it is based on removing outdated internal information. Current policy will continue to be maintained in DoD Instruction 5200.08, “Security of DoD Installations and Resources and the DoD Physical Security Review Board (PSRB)” (available at https://www.esd.whs.mil/Portals/54/Documents/DD/issuances/dodi/520008_2005_ch3.pdf), DoD Manual 5200.08 volume 3, “Physical Security Program: Access to DoD Installations” (available at https://www.esd.whs.mil/Portals/54/Documents/DD/issuances/dodm/520008_vol3.pdf); and bilateral agreements with the organizations involved. These USO/Red Cross individuals are only assigned overseas at the invitation of DoD, and the specifics of their eligibility should be established in the Memorandum of Understanding between DoD and the invited organizations.

This rule is not significant under Executive Order (E.O.) 12866, “Regulatory Planning and Review.” Therefore, E.O. 13771, “Reducing Regulation and Controlling Regulatory Costs” does not apply. This removal supports a recommendation of the DoD Regulatory Reform Task Force.

List of Subjects in 32 CFR Part 253

Armed forces, Red Cross, Security measures, United Service Organizations (USO).

PART 253—[REMOVED]

Accordingly, by the authority of 5 U.S.C. 301, 32 CFR part 253 is removed.

Dated: October 23, 2020.
Aaron T. Siegel,
Alternate OSD Federal Register Liaison Officer, Department of Defense.

[FR Doc. 2020-23836 Filed 11-12-20; 8:45 am]

BILLING CODE 5001-06-P